DEPARTMENT OF ENERGY

Office of Energy Efficiency and Renewable Energy

10 CFR Part 431

[Docket No. EE-RM-96-400]

Energy Efficiency Program for Certain Commercial and Industrial Equipment: Petition for Recognition of Underwriters Laboratories Inc. To Be Classified as a Nationally Recognized Certification Program for Electric Motor Efficiency

AGENCY: Office of Energy Efficiency and Renewable Energy; Department of Energy.

ACTION: Public notice and solicitation of comments.

SUMMARY: Underwriters Laboratories Inc. has petitioned the Department of Energy (Department) to classify its Energy Verification Service program for electric motors as a nationally recognized certification program in the United States. The Department solicits comments, data and information as to whether to grant the Petition.

DATES: Written comments, data and information, in triplicate, must be received at the Department of Energy by October 18, 2001.

ADDRESSES: Written comments, data and information should be labeled “Underwriters Laboratories Inc. Petition to be Classified as a Nationally Recognized Certification Program for Electric Motor Efficiency,” and submitted to: Ms. Brenda Edwards-Jones, Office of Energy Efficiency and Renewable Energy, EE-41, U.S. Department of Energy, 1000 Independence Avenue SW., Washington, DC 20585-0121. Telephone: (202) 586-2945; Telefax: (202) 586-4617. Also, a copy of such comments should be submitted to Ms. Jodine E. Smyth, Senior Coordinator, Global Accreditation Services, Underwriters Laboratories Inc., 333 Pfingsten Road, Northbrook, IL 60062. Telephone: (847) 272-8800, ext. 42418; or Telefax (847) 509-6321.

FOR FURTHER INFORMATION CONTACT:

James Raba, U.S. Department of Energy, Office of Energy Efficiency and Renewable Energy, Mail Station EE-41, 1000 Independence Avenue, SW., Washington, DC 20585-0121, telephone (202) 586-8654, telefax (202) 586-4617, or: jim.raba@ee.doe.gov.

Francine Pinto, Esq., U.S. Department of Energy, Office of General Counsel, Mail Station GC-72, 1000 Independence Avenue, SW., Washington, DC 20585-0103, (202) 586-7432, telefax (202) 586-4116, or: francine.pinto@hq.doe.gov.

SUPPLEMENTARY INFORMATION: A copy of the Underwriters Laboratories Inc. petition for its certification program to be nationally recognized is appended to this notice. Supporting documents that accompanied the Petition may be viewed at the Freedom of Information Reading Room, U.S. Department of Energy, Forrestal Building, Room 1E-190, 1000 Independence Avenue, SW., Washington, DC 20585-0101, telephone (202) 586-3142, between the hours of 9:00 a.m. and 4:00 p.m., Monday through Friday, except Federal holidays. Also, it can be viewed on the World Wide Web at http://www.eren.doe.gov/buildings/codes_standards/rules/index.htm.

Additional information about Underwriters Laboratories Inc.'s Energy Verification Services (EVS), and in particular, three-phase induction (1-200 horsepower) motors, can be obtained on the World Wide Web at http://www.ul.com/energy/index.html and http://www.ul.com/energy/elements.html and http://www.ul.com/energy/test.html respectively, or from Ms. Jodine E. Smyth, Senior Coordinator, Global Accreditation Services, Underwriters Laboratories Inc., 333 Pfingsten Road, Northbrook, IL 60062, or telephone: (847) 272-8800, ext. 42418; or telefax (847) 509-6321, or electronic mail at Jodine.E.Smyth@us.ul.com Also, information about the Petition to be a nationally recognized certification program for electric motor efficiency can be obtained from Ms. Smyth.

The Final Rule for Test Procedures, Labeling, and Certification Requirements for Electric Motors, 10 CFR Part 431, was published in the Federal Register (64 FR 54114) on October 5, 1999. It can also be obtained from the Office of Building Research and Standards, Office of Energy Efficiency and Renewable Energy, EE-41, U.S. Department of Energy, 1000 Independence Avenue SW., Washington, DC 20585-0121, or telephone 202-586-9127, or on the World Wide Web at http://www.eren.doe.gov/buildings/codes_standards/rules/motors/index.htm

Authority

Part C of Title III of the Energy Policy and Conservation Act contains energy conservation requirements for electric motors, including test procedures, energy efficiency standards, and compliance certification requirements. 42 U.S.C. 6311-6316. Section 345(c) of EPCA directs the Secretary of Energy to require motor manufacturers “to certify through an independent testing or certification program nationally recognized in the United States, that [each electric motor subject to EPCA efficiency standards] meets the applicable standard.” 42 U.S.C. 6316(c). Regulations to implement this EPCA directive are codified in Title 10 of the Code of Federal Regulations Part 431 (10 CFR Part 431) at sections 431.123, Compliance Certification, 431.27, Department of Energy recognition of nationally recognized certification programs, and 431.28, Procedures for recognition and withdrawal of recognition of accreditation bodies and certification programs. Sections 431.27 and 431.28 set forth the criteria and procedures for national recognition of an energy efficiency certification program for electric motors by the Department of Energy.

Background

For a certification program to be classified by the Department of Energy as being nationally recognized in the United States for the purposes of section 345 of EPCA, the organization operating the program must submit a petition to the Department requesting such classification, in accordance with sections 431.27 and 431.28 of 10 CFR Part 431. In sum, for the Department to grant such a petition, the certification program must: (1) Have satisfactory standards and procedures for conducting and administering a certification system, and for granting a certificate of conformity; (2) be independent of electric motor manufacturers, importers, distributors, private labelers or vendors; (3) be qualified to operate a certification system in a highly competent manner; and (4) be expert in the test procedures and methodologies in IEEE Standard 112-1996 Test Method B and CSA Standard C390-93 Test Method (1), or similar procedures and methodologies for determining the energy efficiency of electric motors, and have satisfactory criteria and procedures for selecting and sampling electric motors for energy efficiency testing. 10 CFR Part 431.27(b).

Each petition requesting classification as a nationally recognized certification program must contain a narrative statement as to why the organization meets the above criteria, be accompanied by documentation that supports the narrative statement, and signed by an authorized representative. 10 CFR Part 431.27(c).

Discussion

Pursuant to sections 431.27 and 431.28(a) of 10 CFR Part 431, on February 16, 2001, Underwriters Laboratories Inc. submitted to the Department a Petition for “Classification in Accordance with 10 CFR Part 431.27” (“Petition” or “UL Petition”). The Petition consisted of a letter from Underwriters Laboratories Inc. to the Department, narrative statements on each of four subjects, and supporting documentation on these subjects. The Department is required to publish in the Federal Register such petitions for public notice and solicitation of comments, data and information as to whether the Petition should be granted. 10 CFR Part 431.28(b). The Department is hereby publishing as an attachment to this notice the four narrative statements in their entirety. Also, attached is the Department's summary of the supporting documentation.

The Department hereby solicits comments, data and information on whether the Underwriters Laboratories Inc. Petition should be granted. 10 CFR Part 431.28(b). Any person submitting written comments to DOE with respect to the Underwriters Laboratories Inc. Petition must also, at the same time, send a copy of such comments to Underwriters Laboratories Inc. As provided under section 431.28(c) of 10 CFR Part 431, Underwriters Laboratories Inc. may submit to the Department a written response to any such comments. After receiving any such comments and responses, the Department will issue an interim and then a final determination on the Underwriters Laboratories Inc. Petition, in accordance with sections 431.28(d) and (e) of 10 CFR Part 431.

In particular, the Department is interested in obtaining comments, data, and information respecting the following:

a. Attachment 1 of the Underwriters Laboratories Inc.'s Petition, segment entitled “431.27(c)(1) Standards and Operating Procedures.” The Department is interested in obtaining comments as to how rigorously Underwriters Laboratories Inc. operates its certification system under the guidelines contained in ISO/IEC Guide 65, General requirements for bodies operating product certification systems.

b. Attachment 1 of the Underwriters Laboratories Inc.'s Petition, segment entitled “Test Facility Evaluation.” The Department is interested in obtaining comments concerning the step-by-step procedures and processes that, in fact, Underwriters Laboratories uses to examine and qualify a testing facility under the guidelines contained in ISO/IEC Guide 25, General requirements for the competence of calibration and testing laboratories. Also, the procedures it uses to evaluate motor efficiency through review of motor design and construction information, conduct actual witness testing, analyze test data, and determine the reliability of an alternative efficiency determination method.

c. Attachment 1 of the Underwriters Laboratories Inc.'s Petition, segment entitled “Sample Selection.” The Department is interested in obtaining comments concerning the criteria and procedures Underwriters Laboratories Inc. uses for the selection and sampling of electric motors to be tested for energy efficiency.

d. Attachment 2 of the Underwriters Laboratories Inc.'s Petition, segment entitled “431.27(c)(2) Independence.” The Department is interested in obtaining comments as to whether there is a conflict of interest, or the appearance of a conflict of interest, in certain situations where Underwriters Laboratories Inc. has an ongoing relationship, direct or indirect, with a motor manufacturer, importer, private labeler, or other such entity through (a) the UL product listing process for safety, or (b) through a manufacturer's representative that would serve in a UL Industry Advisory Group.

e. Attachment 4 of the Underwriters Laboratories Inc.'s Petition, segment entitled “431.27(c)(4) Expertise in Motor Test procedures.” The Department is interested in obtaining comments concerning the technical qualifications and experience of Underwriters Laboratories Inc. staff with evaluating and testing electric motors for energy efficiency under IEEE 112-1996 Test Method B and CSA C390-93 Test Method (1).

Additionally, the Department has been conducting an independent investigation of the Underwriters Laboratories Inc., Energy Verification Service.

Issued in Washington, DC, September 27, 2001.
David K. Garman,
Assistant Secretary for Energy Efficiency and Renewable Energy.

Underwriters Laboratories, Inc., Petition

16 February 2001

Mr. James Raba

U.S. Department of Energy, Office of Energy Efficiency and Renewable Energy, Mail Station EE-41, 1000 Independence Ave., SW., Washington, DC 20585-0121

Subject: Classification in Accordance with 10 CFR 431.27

Dear Mr. Raba:

Please accept this letter and supporting documentation as Underwriters Laboratories Inc., petition for classification in accordance with 10 CFR Part 431.27, par. c)—Department of Energy Recognition of Nationally Recognized Certification Programs.

Provided for your review is information regarding:

• The program procedures for implementing UL's Energy Verification Services

• Statement of Independence

• History and evidence of UL's experience as a third party product certification organization.

• History in UL's experience in the field of energy verification services.

If you require any further information regarding this request, please feel free to contact us.

Sincerely,

Jodine E. Smyth (Ext. 42418),

Senior Coordinator, Global Accreditation Services,

FAX: 847-509-6321,

Email: Jodine.E.Smyth@us.ul.com

Reviewed by:

Rick A. Titus,

Associate Manager, Global Accreditation Services,

FAX: 847-509-6321,

Email: Rick.A.Titus@us.ul.com

Attachment 1

431.27(c)(1) Standards and Operating Procedures

Underwriters Laboratories Inc., energy verification service assists manufacturers demonstrate their products meet UL and Canadian regulations by verifying the energy efficiency ratings of their products. UL's Energy Verification service includes products such as motors, air conditioning units, furnaces, refrigerators, etc. UL's Energy Verification service is offered as an adjunct service to UL's traditional product safety certification programs.

Underwriters Laboratories Inc. product safety certification program is an ISO Guide 65 compliant program as demonstrated by ANSI accreditation, letter/scope is provided at part of Attachment 3. UL's Energy Verification utilizes the same operation manuals as UL's product safety certification services with minor variations that are detailed in the UL Energy Verification Manual.

These variations include: Scope of products: Motors, Three-Phase Induction (1 to 200 horsepower).

Declaration of Test Standards Used

(a) CSA-C390-M93, Three-Phase Induction Efficiency Quoting Method and Permissible Efficiency Tolerance, or

(b) DOE Test Procedure 10 CFR, Part 431.23.

The certification of motors under UL's Energy Verification Service is based upon the satisfactory evaluation and testing to the requirements of the applicable standard. Continued certification is judged through continued surveillance of products at the manufacturing location. The following is a description of the major elements of UL's Energy Verification Service used for qualifying manufacturers' motors.

Application Process

The customer requests energy verification certification of their motors. UL will collect information and provide applications to the customer. Upon receipt of applications UL will assign a qualified UL staff member to be responsible for handling the investigation.

Initial Product Evaluation Criteria

General—The following information is obtained prior to and during the initial visit to the manufacturer's facilities:

(a) Identification of the products being submitted by type, brand name, model designations and, if available, rated yearly energy consumption (kWh/yr.), and any other pertinent information specific to these products.

(b) A summary of test data and information on energy consumption, and product capacity for the products being submitted, obtained in accordance with the applicable Standard.

(c) Information on the test facilities used in obtaining the test data and to be used in verifying the test data—a list of instruments used in making the necessary measurements such as temperature, electrical, time and power supply, information on calibration and other applicable information on the test room such as the location, source of supply and environmental controls.

(d) Information on the products' design and construction, including the critical product features which would affect the product performance with respect to energy efficiency which must be controlled by the manufacturer in order to maintain a consistent product performance with respect to energy efficiency.

(e) A description of the production testing conducted to monitor controls on energy efficiency ratings assigned for the products.

Test Facility Evaluation

Due to the volume of testing, and the need to demonstrate that products manufactured after the initial evaluation remain in compliance with requirements, UL's Energy Verification Service is designed to make use of manufacturers' test facilities. A client may utilize the UL Client Test Data Program or the UL Witness Test Data program. UL's Client Test Data or UL's Witness Test Data programs as detailed in the UL Client Interactive Manual.

The Witness Test data program includes a review of the test facilities, equipment and competence of personnel conducting the testing. All tests are witnessed by UL staff to confirm the results of the tests.

The UL Client Test Data programs requires initial and annual assessments of the clients testing capabilities which includes: the laboratory quality system, physical resources, test equipment, personnel, procedures and documentation of data.

Sample Selection

Representative samples from the manufacturer's production are selected for use in testing witnessed by UL's engineering staff. Representative samples are those that, when reviewed as a group, can adequately represent a line of similar models that use the same major energy consuming components.

The objective in selecting representative samples is to obtain sufficient confidence that the series of motors verified meet the applicable energy efficiency standard and regulation while at the same time minimizing the number of tests the manufacturer is required to perform. For a series of motors, samples are selected to represent the entire range of motors. The data collected in the representative samples is reviewed to verify the samples can completely represent the model line. Additional sampling may be necessary to completely represent the model line.

Product Construction Evaluation

The manufacturer's product construction is evaluated to identify the critical construction features that would affect the product capacity and performance with respect to energy efficiency. In addition, the manufacturer's existing quality assurance procedures for controlling critical construction features, as well as the manufacturer's procedures for ongoing production testing, are evaluated to determine that adequate controls are in place to provide consistent energy efficiency.

On-Going Production Testing

Manufacturers test samples of their products as part of their ongoing production procedures to determine continued compliance with the energy efficiency requirements. The number of samples to be tested and the frequency of testing varies for each product type and is dependent on the applicable standard, government regulation, industry practices and number of units manufactured. The manufacturer is required to document the test results, which UL audits as part of each follow-up visit.

Follow-Up Visits and Testing

UL representatives conduct unannounced inspections at each authorized manufacturing location. Typically, two visits to each manufacturing facility are carried out each year to examine samples of the product and monitor the manufacturers' production and control measures and use of the Energy Verification marking. Whenever possible, the follow-up visits are combined with ongoing safety certification Follow-Up visits. During each visit, samples are selected by the UL representative and tested by the manufacturer at its own or other qualified facility. The test results are compared to the documented test results for the selected products to verify continuing compliance. The number of samples to be tested varies for each product and is dependent on variables similar to those used to determine the number of tests to be performed.

Non-Conformance

For non-conforming test results found during follow-up testing at the manufacturer's own or other qualified test facilities, the manufacturer is required to either remove the UL Energy Verification markings from non-conforming products or determine the cause of non-conformance and implement one of the following:

(a) Cull the lot to segregate non-conforming products;

(b) Rework the lot to correct the non-conformance; or

(c) Determine that no other sample will exhibit non-conformance.

Certification

After determination that the motors meet the applicable standard and regulation, the applicant is formally notified that they are authorized to apply the UL Energy Verification Mark. A Follow-Up Procedure report is issued that contains identification of the motors found in compliance, electrical and efficiency ratings, critical construction features, test results and Follow-Up testing requirements. A directory listing all the products verified for energy efficiency is published and available to the general public.

Follow-Up Service (FUS) Agreement

In compliance with ISO Guide 65 Clause 13.2 and as a means of control of UL's Energy Verification Mark, the applicant and manufacturer must enter into contract “FUS Agreement” with Underwriters Laboratories Inc. This FUS Agreement defines the conditions for maintaining certification such as access to manufacturing sites, records, follow-up inspections and product re-testing. A client may only apply UL's mark to products that comply with the UL Follow-Up Procedure, described above.

Attachment 2

431.27(c)(2) Independence

UL is independent and impartial of any individual supplier or purchaser and is free from any other conflict of interest. Attached is a notarized Statement of Independence signed by an officer of the corporation.

Attachment 3

431.27(c)(3) Qualifications

Underwriters Laboratories Inc. (UL) is an independent, not-for-profit product safety certification organization, whose corporate mission is to serve the public by testing products for safety. UL's principal activity is investigating the safety of many kinds of products, including electrical and electronic equipment and products, mechanical products, building materials, construction systems, fire protection equipment, burglary protection systems and equipment, and marine products. UL also devotes its resources to the development of UL Standards for Safety. These documents contain the safety requirements for products tested by UL. Since the first Standard was developed in 1903, the number of UL Standards for Safety has increased to over 700.

UL was founded in 1894. In the past 105 years, UL has grown to approximately 5250 employees, some 1500 of which are Engineers. UL's Corporate Headquarters is in Northbrook, Illinois. Additionally, there are four other major domestic testing locations, 24 international subsidiaries and liaison offices and 190 inspection centers. Today, more than 16.1 billion UL Marks appear on new products annually.

Testing Experience and Expertise

UL has been conducting product evaluations for 105 years—an activity that is the basis of UL's expertise. Since its first examination on March 24, 1894, on the flammability characteristics of a noncombustible insulator, the breadth of UL product evaluations has increased every year. In 1999 alone, UL conducted more than 94,300 product evaluations.

Summary of UL's Accreditations

UL is involved in over 80 accreditation programs covering a wide spectrum of products and services. These accreditation programs are all related to UL's activities concerned with the evaluation and testing services of materials, products, and systems for public safety. UL works with accreditors from the private sector whose work is accepted by a variety of stakeholders and with accreditors from municipal, State and Federal Government bodies. These organizations include the American National Standards Institute (ANSI), National Institute of Standards and Technology under the National Voluntary Laboratory Accreditation Program (NIST/NVLAP) and Occupational Safety and Health Administration (OSHA) as a Nationally Recognized Testing Laboratory (NRTL) and the Standards Council of Canada (SCC), just to name a few.

The majority of these accreditations cover UL as a testing laboratory and product safety certification organization. Although each accreditor to a certain extent establishes their own criteria, for the most part, two sets of criteria are utilized for evaluating the competence of a testing laboratory and product certification organization. ISO/IEC Guide 25, General Requirements for the Competence of Calibration and Testing Laboratories and ISO/IEC Guide 65 General Requirements for Bodies Operating Product Certification Systems. UL's written policies and associated operating procedures were designed using the criteria of these two guides.

Copies of UL's accreditation certificates by ANSI, SCC, and OSHA are included for your review.

Attachment 4

431.27(c)(4) Expertise in Motor Test Procedures

General

UL has been providing Energy Verification certification services since 1995. UL has evaluated motors in sizes ranging from 1 hp to 200 hp using the standards IEEE 112 Test Method B or CSA C390. Review of the enclosed Directory of Products Verified to Energy Efficient Standards will reveal the number of manufacturers UL currently maintains Listings for in each category. UL Energy Verification Certifications can also be accessed on-line by using the following address: http://www.ul.com/database/index.htm.

Personnel

UL engineering staff maintains a minimum four-year Bachelor of Science in engineering. The Resume of the involved Managing Engineers and the personnel bulletins of the staff involved at the UL facilities is provided for your review.

The Department's Summary of Supporting Documentation Provided by Underwriters Laboratories Inc.

Summary of Attachment 1 Supporting Documentation

Attachment 1 of the Underwriters Laboratories Inc. petition contained no supporting documents.

Summary of Attachment 2 Supporting Documentation

Attachment 2 of the Underwriters Laboratories Inc. petition contains a copy of a sworn statement of the independent status of Underwriters Laboratories Inc., dated November 12, 1999.

Summary of Attachment 3 Supporting Documentation

Attachment 3 of the petition contains copies of the following documents Underwriters Laboratories Inc., has received in recognition of its certification system and technical capabilities:

1. Letter of confirmation that the attached list of Underwriters Laboratories Inc.'s certification programs and their sites are accredited by the American National Standards Institute, in accordance with ISO/IEC Guide 65—General Requirements for Bodies Operating Product Certification Systems, dated September 5, 2000.

2. Certificate of Accreditation as a certification organization from the Standards Council of Canada, October 5, 1993.

3. Certificate of Recognition as a Nationally Recognized Testing Laboratory Program from the Occupational Safety and Health Administration, U.S. Department of Labor, June 29, 2000.

Summary of Attachment 4 Supporting Documentation

Attachment 4 of the petition contains a copy of the Underwriters Laboratories Inc., Directory of Products Verified to Energy Efficiency Standards, September 7, 1999. Also, Attachment 4 contains copies of resumes of certain managing engineers, and the Personnel Bulletins of the involved staff at the Underwriters Laboratories Inc., facilities.

[FR Doc. 01-24682 Filed 10-2-01; 8:45 am]

BILLING CODE 6450-01-P